Proclamation 10556 of April 21, 2023

Earth Day, 2023

By the President of the United States of America

A Proclamation

America's natural wonders help define who we are as a Nation. They unite and renew us, a constant reminder of something bigger than ourselves. But nature is not only a catalyst for reflection—it demands action. On Earth Day, we celebrate the modern environmental movement that kicked off 53 years ago, when millions of Americans of every age and background first rallied together to change our laws and become better stewards of our planet. Because of their courage and commitment, the Environmental Protection Agency was created to safeguard our environment and the health of all Americans, and the National Oceanic and Atmospheric Administration was established to help protect our ocean. The Congress passed the Clean Water Act to restore our rivers and streams; the 1970 Clean Air Act to slash deadly emissions; and the Endangered Species Act, which has helped prevent 99 percent of potential extinctions of species under its care. Advocates have since built a global coalition that today will see a billion people worldwide take action to protect the Earth. Their work has called us all to conscience and has inspired us to reject the false choice between a sustainable planet and a strong economy. Today we are continuing to prove that we can and must demand both.

This work has never been more urgent. Climate change is a clear and present danger—in the words of UN Secretary General Antonio Guterres, it is a “code red for humanity.” We see it across the world and in every corner of our country: more destructive hurricanes and tornadoes; more severe and longer-lasting droughts; and wildfires that have destroyed millions of acres—more land than many whole States. Extreme weather is disrupting our supply chains and overwhelming our energy grids, costing America $165 billion in damages last year alone and often hitting low-income communities hardest. Deforestation, biodiversity loss, toxic spills, and plastic pollution only make things worse. Our economy, our national security, and our children's futures are at stake.

When I was sworn in as President, we set groundbreaking goals to cut America's greenhouse gas emissions in half by 2030 and achieve net-zero emissions by 2050 in order to keep global warming below the critical 1.5-degrees-Celsius threshold. We immediately rejoined the Paris Agreement and have worked to strengthen global resilience—rallying 130 nations to commit to slashing methane emissions, working to halt deforestation, and putting healthy ecosystems at the heart of healthy economies. At home, we are in the midst of a generational upgrade in our infrastructure; and we passed the most aggressive climate investment law in history, making record investments in green manufacturing, clean public transit, and climate-smart agriculture while giving families tax credits to make their homes more energy efficient. In the first 2 years of my Administration, more solar, wind, and battery storage technology were deployed in the United States than any prior 2-year period. In 2022 alone, wind and solar provided nearly three-quarters of new power generation capacity in the United States. We are making the United States the world's electric vehicle leader, building a nationwide network of 500,000 charging stations and providing tax credits to help families afford electric cars and save on the cost of gasoline. Throughout, we are making sure that the technology powering our clean energy future is made in America by American workers, creating good-paying union jobs. Since we know environmental factors can impact businesses and markets, I have made sure that pension fund managers can continue to take those factors into account.

As we unleash this new era of economic growth powered by clean energy, we are also making historic investments in environmental justice—cleaning up toxic waste, improving air quality, capping old oil and gas wells, and expanding safe outdoor spaces across the country so communities smothered by the legacy of pollution can rebuild. We are working to replace every lead pipe left in America so children everywhere can turn on the faucet and drink clean water, and we are partnering with communities to get dangerous “PFAS” chemicals out of their water supplies. To complement and enable these efforts, today I signed an Executive Order committing the Federal Government to incorporating environmental justice perspectives, values, and considerations into our work. I have also committed to working with the Congress to quadruple American support for global climate finance, unlocking the additional pools of private investment needed to bring the world along. There is no denying that we are in this together.

At home, we have also deepened our conservation work, preserving our natural wonders as bridges to our past and future. Our “America the Beautiful” Initiative aims to conserve at least 30 percent of our Nation's lands and waters by 2030; in its first year, we protected more territory than any administration since President John F. Kennedy's. Last Earth Day, I signed an Executive Order strengthening America's forests to harness their power in the fight against climate change and reduce wildfire risk. I have designated magnificent lands from Avi Kwa Ame—or Spirit Mountain—in Nevada to Camp Hale in Colorado as national monuments, restored protections to treasures like Bears Ears and Grand Staircase-Escalante in Utah, and acted to protect the Tongass National Forest and Bristol Bay in Alaska.

The environmentalist and author Rachel Carson once wrote: “Those who contemplate the beauty of the Earth find reserves of strength that will endure as long as life lasts.” Today, we renew that strength to keep building on our progress. The challenges we face are great, but our capacity is greater. The inspiring passion of young people and climate activists, civil society and Indigenous communities, and thoughtful consumers and forward-thinking businesses is galvanizing the world to finally deliver a more equitable, prosperous, and just planet, preserved for generations to come.

NOW, THEREFORE, I, JOSEPH R. BIDEN JR., President of the United States of America, by virtue of the authority vested in me by the Constitution and the laws of the United States, do hereby proclaim April 22, 2023, as Earth Day. Today, I encourage all Americans to reflect on the need to protect our precious Earth; to heed the call to combat our climate and biodiversity crises while growing the economy; and to keep working for a healthier, safer, more equitable future for all.

IN WITNESS WHEREOF, I have hereunto set my hand this twenty-first day of April, in the year of our Lord two thousand twenty-three, and of the Independence of the United States of America the two hundred and forty-seventh.

[FR Doc. 2023-08938

Filed 4-25-23; 8:45 am]

Billing code 3395-F3-P